DEPARTMENT OF AGRICULTURE

Rural Utilities Service

7 CFR Part 1780

RIN 0572-AC11

Amending the Water and Waste Program Regulations

AGENCY: Rural Utilities Service, USDA.

ACTION: Proposed rule.

SUMMARY: The Rural Utilities Service (RUS), an agency delivering the United States Department of Agriculture's (USDA) Rural Development Utilities Programs, hereinafter referred to as Rural Development or the Agency, is amending its regulations to administer the Water and Waste Loan and Grant Programs. This action implements provisions of the 2008 Farm Bill for interest rates on direct loans and modifies the interest rate structure currently being used for the direct loan program. Interest rates on loans subject to 5 or 7 percent interest rate limitations (poverty and intermediate rates, respectively) will adjust with changes in the market rate. The poverty and intermediate interest rates will be established at rates equal to a percentage of current market yields for outstanding municipal obligations. The intended effect is to make part 1780 current with statutory authority.

In the final rules section of the Federal Register, the Agency is publishing this action as a direct final rule without prior proposal because Rural Development views this as a non-controversial action and anticipates no adverse comments. If no adverse comments are received in response to the direct final rule, no further action will be taken on this proposed rule, and the action will become effective at the time specified in the direct final rule. If the Agency receives adverse comments, a timely document will be published withdrawing the direct final rule and all public comments received will be addressed in a subsequent final rule based on this action.

DATES: Comments on this proposed action must be received by Rural Development or carry a postmark or equivalent no later than February 5, 2009.

ADDRESSES: You may submit comments to this rule by any of the following methods:

• Federal eRulemaking Portal: Go to http://www.regulations.gov. In the “Search Documents” box, enter RUS-08-Water-0005, check the box under the Search box labeled “Select to find documents accepting comments or submissions,” and click on the GO>> key. To submit a comment, choose “Send a comment or submission,” under the Docket Title. In order to submit your comment, the information requested on the “Public Comment and Submission Form,” must be completed. (If you click on the hyperlink of the docket when the search returns it, you will see the docket details. Click on the yellow balloon to receive the “Public Comment and Submission Form.”) Information on using Regulations.gov, including instructions for accessing documents, submitting comments, and viewing the docket after the close of the comment period, is available through the site's “How to Use this Site” link.

• Postal Mail/Commercial Delivery: Please send your comment addressed to Michele Brooks, Director, Program Development and Regulatory Analysis, USDA Rural Development, STOP 1522, Room 5159, 1400 Independence Avenue, SW., Washington, DC 20250-1522. Please state that your comment refers to Docket No. RUS 08-Water-0005.

Other Information: Additional information about Rural Development and its programs is available at http://www.rurdev.usda.gov/index.html.

FOR FURTHER INFORMATION CONTACT: Cheryl Francis, Loan Specialist, Water and Environmental Programs, USDA Rural Development, STOP 1570, Room 2229 South Building, 1400 Independence Avenue, Washington, DC 20250-1570. Telephone: (202) 720-9589; FAX: (202) 690-0649; e-mail: cheryl.francis@wdc.usda.gov.

SUPPLEMENTARY INFORMATION: See the SUPPLEMENTARY INFORMATION provided in the direct final rule located in the Rules and Regulations direct final rule section of the Federal Register for the applicable Supplementary Information on this action.

Dated: December 30, 2008.
James M. Andrew,
Administrator, Rural Utilities Service.

[FR Doc. E8-31377 Filed 1-5-09; 8:45 am]

BILLING CODE 3410-15-P